FEDERAL FINANCIAL INSTITUTIONS EXAMINATION COUNCIL

Appraisal Subcommittee; Information Collection Submitted for OMB Review And Comment Request

AGENCY: Appraisal Subcommittee, Federal Financial Institutions Examination Council.

ACTION: Notice.

SUMMARY: In accordance with the Paperwork Reduction Act of 1980 (44 U.S.C. Chapter 35), the Appraisal Subcommittee of the Federal Financial Institutions Examination Council (“ASC”) will submit to the Office of Management and Budget (“OMB”) for clearance the following information collection, without change from a previously approved collection.

DATES: Comments on this information collection must be received on or before January 30, 2008.

ADDRESSES: Send comments to Marc L. Weinberg, Acting Executive Director and General Counsel, Appraisal Subcommittee, 2000 K Street, NW., Suite 310, Washington, DC 20006; and Mark D. Menchik, Clearance Officer, Office of Management and Budget, New Executive Office Building, Room 10236, Washington, DC 20503.

FOR FURTHER INFORMATION CONTACT: Marc L. Weinberg, Acting Executive Director and General Counsel, Appraisal Subcommittee, 2000 K Street, NW., Suite 310, Washington, DC 20006, from whom copies of the information collection and supporting documents are available.

Summary of Revision

Title: 12 CFR part 1102, subpart D; Rules pertaining to the privacy of individuals and systems of records maintained by the Appraisal Subcommittee.

Type of Review: Regular submission.

Description: The information will be used by the ASC and its staff in determining whether to grant to an individual access to records pertaining to that individual and whether to amend or correct ASC records pertaining to that individual under the Privacy Act of 1974 (5 U.S.C. 552a).

Form Number: None.

OMB Number: 3139-0006.

Affected Public: Individuals and households.

Number of Respondents: 50 respondents.

Total Annual Responses: 50 responses.

Average Hours per Response: .33 hours.

Total Annual Burden Hours: 16.67 hours.

Dated: December 21, 2007.
By the Appraisal Subcommittee of the Federal Financial Institutions Examination Council.
Marc L. Weinberg,
acting Executive Director & General Counsel.

[FR Doc. 07-6238 Filed 12-28-07; 8:45 am]

BILLING CODE 6210-01-M